DEPARTMENT OF HEALTH AND HUMAN SERVICES

Centers for Medicare & Medicaid Services

[Document Identifiers: CMS-10510, CMS-10169 and CMS-287-05]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by June 17, 2014.

ADDRESSES: When commenting, please reference the document identifier or OMB control number (OCN). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10510 Basic Health Program Report for Health Insurance Exchange Premium

CMS-10169 Durable Medical Equipment, Prosthetics, Orthotics and Supplies (DMEPOS) Competitive Bidding Program

CMS-287-05 Home Office Cost Statement Form

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Basic Health Program Report for Health Insurance Exchange Premium; Use: The Basic Health Program (BHP) is federally funded by determining the amount of payments that the federal government would have made through the premium tax credit (PTC) and cost sharing reductions (CSR) for people enrolled in BHP had they instead been enrolled in an Exchange. To calculate the amounts for each state, we need the reference premiums for the second lowest cost silver plans (SLCSP) in each geographic area in a state, as SLCSPs are a basic unit in the calculation of PTC and CSRs under the Exchanges. To estimate what PTC and CSRs would have been paid, the reference premiums for these SLCSPs are critical components in the BHP payment methodology. Similarly, we also need to collect reference premiums for the lowest cost bronze plans to appropriately account for CSR calculations for American Indians and Alaskan Natives. Reference premiums are foundational inputs into the BHP payment methodology. We have the necessary information to determine these reference premiums for states whose Exchanges are operated by the Federally Facilitated Exchange (FFE) or are operated in partnership with the FFE. Consequently, this collection only pertains to the 17 states that are operating State Based Exchanges. Form Number: CMS-10510 (OCN: 0938-1218); Frequency: Yearly; Affected Public: State, Local, or Tribal Governments; Number of Respondents: 17; Total Annual Responses: 17; Total Annual Hours: 68. (For policy questions regarding this collection contact Jessica Schubel at 410-786-3032.)

2. Type of Information Collection Request: Revision of a currently approved collection; Title of Information Collection: Durable Medical Equipment, Prosthetics, Orthotics and Supplies (DMEPOS) Competitive Bidding Program; Use: Section 302 of the MMA amended section 1847 of the Social Security Act (the Act) to require the implementation of the DMEPOS competitive bidding program. The Act provided the program requirements for the submission of bids in establishing payment rates and the awarding of contracts; provided the requirements for mergers and acquisitions; and a requirement for the Secretary to re-compete contracts not less often than once every 3 years. The MMA also requires the Secretary to recompete contracts not less often than once every 3 years. The Round 1 Rebid contract period for all product categories except mail-order diabetic supplies expired on December 31, 2013. (Round 1 Rebid contracts for mail-order diabetic testing supplies ended on December 31, 2012.) The competition for the Round 1 Recompete began in August of 2012. The Round 1 Recompete contracts and prices became effective on January 1, 2014 and will expire on December 31, 2016. Round 2 and National Mail-Order contracts and prices will expire on June 30, 2016.

The most recent approval for this information collection request (ICR) was issued by OMB on June 10, 2013. That ICR included the estimated burden to collect the information in bidding Forms A and B for the Round 1 Recompete. We are now seeking approval to collect the information in Forms A and B for competitions that will occur before 2017. For these upcoming competitions CMS will publish a slightly modified version of the RFB instructions and accompanying Forms A and B so that suppliers will be better able to identify and understand the requirements of the program. We decided to modify the Request for Bids (RFB) instructions and forms based on our experience from the last round of competition. The end result is expected to produce more complete and accurate information to evaluate suppliers. No new collection requirements have been added to the modified RFB instructions or Form A or B. Finally, we are retaining without change the Change of Ownership (CHOW) Purchaser Form and the CHOW Contract Supplier Notification Form, the Subcontracting Disclosure Form, and Forms C, and D and their associated burden under this ICR. We intend to continue use of these Forms on an ongoing basis. Form Number: CMS-10169 (OCN: 0938-1016); Frequency: Occasionally; Affected Public: Private Sector—Business or other for-profits and Individuals or Households; Number of Respondents: 49,625; Total Annual Responses: 39,380; Total Annual Hours: 235,024. (For policy questions regarding this collection contact Michael Keane at 410-786-4495.)

3. Type of Information Collection Request: Extension without change of a currently approved collection; Title of Information Collection: Home Office Cost Statement Form; Use: Providers of services participating in the Medicare program are required under sections 1815(a) and 1861(v)(1)(A) of the Social Security Act (42 U.S.C. 1395g) to submit annual information to achieve settlement of costs for health care services rendered to Medicare beneficiaries. In addition, regulations at 42 CFR 413.17, 413.20 and 413.24 require adequate cost data and cost reports from providers on an annual basis. The home office cost statement form is filed annually by chain organizations to report costs directly related to services furnished to individual providers that are related to patient care plus an appropriate share of indirect costs. Form Number: CMS-287-05 (OCN: 0938-0202); Frequency: Yearly; Affected Public: Business or other for-profit and Not-for-profit institutions; Number of Respondents: 1,686; Total Annual Responses: 1,686; Total Annual Hours: 785,676. (For policy questions regarding this collection contact Yaakov Feinstein at 410-786-5834.)

Dated: April 15, 2014.
Martique Jones,
Deputy Director, Regulations Development Group, Office of Strategic Operations and Regulatory Affairs.

[FR Doc. 2014-08898 Filed 4-17-14; 8:45 am]

BILLING CODE 4120-01-P